DEPARTMENT OF HEALTH AND HUMAN SERVICES

Centers for Disease Control and Prevention

Privacy Act of 1974; System of Records

AGENCY: Department of Health and Human Services (HHS), Centers for Disease Control and Prevention (CDC).

ACTION: Notification of the addition of new routine uses, modification of existing routine use, and system name revision.

SUMMARY: In accordance with the requirements of the Privacy Act, the Centers for Disease Control and Prevention (CDC) is publishing notice of a proposal to add three new routine uses, to amend one routine use, and to revise the system name of an existing National Institute for Occupational Safety and Health (NIOSH) system of records, 09-20-0147, “Occupational Health Epidemiological Studies. HHS/CDC/NIOSH.” The purpose of the three new routine uses and one amended routine use is to clarify that NIOSH, under the Energy Employees Occupational Illness Compensation Program Act of 2000 (EEOICPA), will release identifiable information associated with cancer-related claims to a number of entities described in the Supplementary Information Section below in order to implement dose reconstruction responsibilities and make informed judgments on addition of classes of workers to the Special Exposure Cohort. In addition, NIOSH is also revising the name of the system of records to “Occupational Health Epidemiological Studies and EEOICPA Program Records. HHS/CDC/NIOSH.” This modification is being done to facilitate the general public's search for the system of records containing EEOICPA program cancer claimant records associated with dose reconstruction.

DATES: CDC invites interested parties to submit comments on the proposed routine uses and system of records name change on or before October 29, 2003. The CDC will adopt the new routine uses and name change without further notice 30 days after the date of publication, unless CDC receives comments which would result in a contrary determination.

ADDRESSES: Comments should be addressed to the Centers for Disease Control and Prevention (CDC) Privacy Act Officer at the address listed below. Comments received will be available for inspection from 8:30 a.m. to 4 p.m. Monday through Friday in the CDC Executive Park Facility, Building 37 Executive Park Drive, Room 3756C, Atlanta, Georgia.

FOR FURTHER INFORMATION CONTACT: Betsey S. Dunaway, Privacy Act Officer, Centers for Disease Control and Prevention, 1600 Clifton Road NE., Executive Park Facility, Building 37, Room 3756C, Mailstop E-11, Atlanta, Georgia 30333, (404) 498-1506. This is not a toll-free number.

SUPPLEMENTARY INFORMATION: CDC proposes to add three new routine uses and amend one routine use of an existing system of records within its National Institute for Occupational Safety and Health (NIOSH): 09-20-0147, “Occupational Health Epidemiological Studies. HHS/CDC/NIOSH.” These new routine uses will be used by NIOSH's Office of Compensation Analysis and Support (OCAS) to fulfill its responsibilities under EEOICPA by releasing information to the indicated entities listed below:

1. Disclosure of personal identifying information associated with cancer-related claims under EEOICPA to the Department of Energy (DOE), other federal agencies, other government or private entities, and to private-sector employers to permit these entities to retrieve records required by NIOSH to reconstruct radiation doses;

2. Disclosure of completed dose reconstruction reports of cancer-related claimants under EEOICPA to the Department of Labor (DOL) and the Department of Energy (DOE) to fulfill HHS dose reconstruction regulations that require disclosure to the claimant, DOL, and DOE, and to fulfill DOE's notification obligations as required by EEOICPA (42 U.S.C. 7384n(e)(1)); and

3. Disclosure of personal identifying information associated with cancer-related claims under EEOICPA to identified witnesses as designated by the NIOSH Office of Compensation Analysis and Support (OCAS) so that these individuals can provide more detailed information on employment exposures to enable NIOSH to more accurately determine claimant radiation exposure levels and to determine the eligibility of claimant classes for membership in the Special Exposure Cohort.

The previous routine uses of the existing system notice are hereby incorporated and maintained by reference with one modification: A record from this system of records may be disclosed to a Member of Congress or a Congressional staff member submitting a verified request involving an individual who is entitled to the information when the individual has requested assistance from the Member or staff member. The Member of Congress or staff member must provide a copy of the individual's written request for assistance. The purpose of this modification is to clarify that records from this system of records will be released to a Member of Congress or a Congressional staff member only as a result of a documented request from an individual who is entitled to the information.

The new routine uses are compatible with the NIOSH system's purpose to evaluate the mortality, morbidity, and prevention of occupationally related diseases. The routine uses are compatible in that they will permit NIOSH, OCAS to better fulfill its responsibilities to complete dose reconstructions for cancer-related claims which will in turn enable DOL to determine award of benefits under the Energy Employees Occupational Illness Compensation Program Act of 2000 (42 U.S.C.S. 7384-7385) and they will also allow OCAS to evaluate petitions for inclusion in the Special Exposure Cohort.

In EEOICPA, Congress recognized the fact that since World War II, Federal nuclear activities have been explicitly recognized under Federal law as activities that are ultra-hazardous. Nuclear weapons production and testing have involved unique dangers, including potential catastrophic nuclear accidents that private insurance carriers have not covered. It is further recognized that recurring exposures to radioactive substances and beryllium, even in small amounts, can cause medical harm. Since the inception of the nuclear weapons program and for several decades afterwards, a large number of nuclear weapons workers at sites of the DOE and at sites of vendors who supplied the Cold War effort were put at risk.

Because of this, Congress established the “Energy Employees Occupational Illness Compensation Program.” The purpose of the program is to provide for timely, equitable, and adequate compensation of covered employees and, where applicable, survivors of such employees, who incurred illnesses during the performance of their duties for the DOE and certain of its contractors and subcontractors. The Department of Labor is the federal agency with lead responsibility and is to administer the program. Within HHS, NIOSH's Office of Compensation Analysis and Support (OCAS) has responsibility under the Act to prepare individual dose reconstructions for specified cancer-related claims and to evaluate petitions for inclusion in the Special Exposure Cohort. The Special Exposure Cohort is a cohort of claimants for whom there is inadequate documentation to complete a dose reconstruction and a reasonable likelihood that their health was endangered by exposure to radiation. The Cohort members can only receive compensation if they develop one of 22 specified cancers.

Pertinent information and records used to develop individual dose reconstruction reports and to evaluate petitions for membership in the Special Exposure Cohort from the NIOSH system of records are acquired from two NIOSH program efforts. NIOSH's Health-Related Energy Research Branch (HERB) has been given access to the DOE's Privacy Act system of records to collect information, records, and data for the purpose(s) of evaluating the mortality and morbidity of occupationally related diseases to determine the cause and prevention of occupationally related diseases (Memorandum of Understanding with Department of Energy (DOE), 56 FR 9701, March 7, 1991 renewed 1995 and 2000 as part of DOE's Radiation Research Program; routine use formalizing data exchange between DOE and HHS added to Privacy Act System of Records DOE-10, “Worker Advocacy Records”). This information is sufficient for NIOSH to fulfill research purposes to evaluate morbidity and mortality of occupationally related diseases, but is not in sufficient detail to complete dose reconstruction of EEOICPA claimants. Additionally, through its research program, NIOSH acquires vital status information, death certificates, and records from the National Death Index and from State Vital Registrars.

NIOSH, Office of Compensation Analysis and Support (OCAS), is now proposing to add three new routine uses, the first of which is to enable the agency to disclose personal identifying information so that NIOSH can receive from DOE additional records and information needed to complete the dose reconstruction process for cancer-related claims and to evaluate applications for the Special Exposure Cohort. The information received by NIOSH, OCAS will include employment histories of claimants, production process and work history information, exposure and dosimetry monitoring data, safety and accident reports, and pertinent excerpts from employee medical records. In addition to DOE as a source for these records, NIOSH, OCAS is proposing a routine use to also allow the disclosure of personal identifying information to other federal agencies, other government or private entities and to private-sector employers to allow these entities to similarly locate necessary records so that NIOSH can complete dose reconstructions and evaluate petitions for inclusion in the Special Exposure Cohort. Such private entities might include, but are not limited to, previous DOE contractors and subcontractors who may no longer be in a contractual relationship with DOE.

A second routine use is needed to enable NIOSH, Office of Compensation Analysis and Support (OCAS), to provide the Department of Energy (DOE) and Department of Labor (DOL) with completed dose reconstruction reports in compliance with HHS' Dose Reconstruction Final Rule (42 CFR part 82), and the requirements of EEOICPA. Under EEOICPA (42 U.S.C. 7384n(e)(1)), DOE is required to provide, to each covered employee with cancer specified in 42 U.S.C. 7384l(9)(B), information specifying the estimated radiation dose of that employee during each employment specified in 42 U.S.C. 7384l(9)(B), whether established by a dosimetry reading, by a method established under 42 U.S.C. 7384n(d), or by both a dosimetry reading and such method. To assist DOE and DOL in fulfilling their legal obligations, the HHS dose reconstruction regulations require disclosure of the completed dose reconstruction to the claimant, DOE and DOL.

The third routine use is being proposed because NIOSH, Office of Compensation Analysis and Support (OCAS), often finds it necessary to contact witnesses who have been identified as possible sources of information that may assist NIOSH, OCAS in completing the dose reconstruction process or evaluating petitions for inclusion in the Special Exposure Cohort. In many instances NIOSH will be directed to speak with a chain of witnesses, one recommending another, and provision of personal identifying information to these witnesses will facilitate NIOSH's efforts without having to obtain consent for each release of personal identifying information from each claimant. This routine use will prevent the expenditure of a great deal of time and resources on the part of the Department of Health and Human Services (HHS) and facilitate more timely dose reconstruction reports and Special Exposure Cohort petition reviews.

Provision of identifiable information to the Department of Energy (DOE), other federal agencies, other government or private entities, private-sector employers, Office of Compensation Analysis and Support (OCAS) designated witnesses, and to members of Congress or their staff in response to requests, to aid NIOSH in providing dose reconstruction reports and evaluating petitions for inclusion in the Special Exposure Cohort are compatible with the purposes for which the records within this NIOSH Privacy Act system were collected. These new and modified routine uses will also significantly decrease the administrative cost and effort required to implement EEOICPA. Without these routine uses, HHS may be forced to request that each claimant for whom it performs a dose reconstruction provide written consent for each listed entity or appropriate designated individual to obtain access to the claimant's personal identifying information, employment, dosimetry, and related information. The Department of Health and Human Services would spend resources and time unnecessarily in requesting written consent for each entity listed above, transmitting each written consent to the appropriate entity and following up on each request for data. Routine uses permitting disclosure of such information as indicated would be cost effective, eliminate these inefficiencies, and be in the best interests of the claimants.

Permitting these entities to receive and use the information/data in these records, as appropriate and to the extent indicated, would not result in the unauthorized release of private information contained in the records. Information received by these entities will be maintained in a secure manner, as required by the Privacy Act. Access will be limited to employees whose official job duties require access to the records. Files and automated systems will be maintained under supervision of the appropriate personnel during normal working hours. Only authorized personnel may handle, retrieve, or disclose any information contained therein. Access to electronic records is controlled by password protection.

We have also made editorial changes throughout the system notice to enhance clarity and specificity and to accommodate normal updating changes.

Dated: September 16, 2003.
Alvin Hall,
Director, Management Analysis and Services Office, Centers for Disease Control and Prevention.

System name:

Occupational Health Epidemiological Studies and EEOICPA Program Records. HHS/CDC/NIOSH.

Security classification:

None.

System location:

Division of Surveillance, Hazard Evaluation, and Field Studies (DSHEFS), National Institute for Occupational Safety and Health (NIOSH), Robert A. Taft Laboratories, 4676 Columbia Parkway, Cincinnati, OH 45226.

Division of Respiratory Disease Studies (DRDS), National Institute for Occupational Safety and Health (NIOSH), 1095 Willowdale Road, Morgantown, WV 20505-2888.

Pittsburgh Research Laboratory, NIOSH, 626 Cochrans Mill Road, Pittsburgh, PA 15236.

Spokane Research Laboratory, NIOSH, 315 E. Montgomery Avenue, Spokane, WA 99207.

Office of Compensation Analysis and Support (OCAS), NIOSH, Robert A. Taft Laboratories, 4676 Columbia Parkway, Cincinnati, Ohio 45226. and

Federal Records Center, 3150 Bertwynn Drive, Dayton, OH 45439.

Data are also occasionally located at contractor sites as studies are developed, data collected, and reports written. A list of contractor sites where individually identifiable data are currently located is available upon request to the system manager.

Also, occasionally data may be located at the facilities of collaborating researchers where analyses are performed, data collected and reports written. A list of these facilities is available upon request to the system manager. Data may be located only at those facilities that have an adequate data security program and the collaborating researcher must return the data to NIOSH or destroy individual identifiers at the conclusion of the project.

Categories of individuals covered by the system:

Working population exposed to physical and/or chemical agents or other workplace hazards that may damage the human body in any way. Some examples are: (1) Organic carcinogens; (2) inorganic carcinogens; (3) mucosal or dermal irritants; (4) fibrogenic materials; (5) acute toxic agents including sensitizing agents; (6) neurotoxic agents; (7) mutagenic (male and female) and teratogenic agents; (8) bio-accumulating non-carcinogen agents; (9) chronic vascular disease-causing agents; and (10) ionizing radiation. Also included are those individuals in the general population who have been selected as control groups. Workers employed by the Department of Energy and its predecessor agencies and their contractors are also included, as are cancer-related claimants under the Energy Employees Occupational Illness Compensation Program Act of 2000 (EEOICPA).

Categories of records in the system:

Physical exams, sputum cytology results, questionnaires, urine test records, X-rays, medical history, pulmonary function test records, medical disability forms, blood test records, hearing test results, smoking history, occupational histories, previous and current employment records, union membership records, driver's license data, demographic information, exposure history information and test results are examples of the records in this system. The specific types of records collected and maintained are determined by the needs of the individual study. Also included are records on cancer-related claimants under EEOICPA.

Authority for maintenance of the system:

Public Health Service Act, section 301, “Research and Investigation” (42 U.S.C. 241); Occupational Safety and Health Act, section 20, “Research and Related Activities” (29 U.S.C. 669); the Federal Mine Safety and Health Act of 1977, section 501, “Research” (30 U.S.C. 951); and the Energy Employees Occupational Illness Compensation Program Act of 2000 (EEOICPA) (42 U.S.C.S. 7384, et seq.).

Purpose(s):

Studies carried out under this system are to evaluate mortality and morbidity of occupationally related diseases and injuries, to determine their causes, and to lead toward prevention of occupationally related diseases and injuries in the future. EEOICPA records are maintained to enable NIOSH to fulfill its dose reconstruction responsibilities under the Act.

Routine uses of records maintained in the system, including categories of users and the purposes of such uses:

Portions of records (name, Social Security number if known, date of birth, and last known address) may be disclosed to one or more of the sources selected from those listed in Appendix I, as applicable. This may be done for obtaining a determination regarding an individual's health status and last known address. If the sources determine that the individual is dead, NIOSH may obtain death certificates, which state the cause of death, from the appropriate Federal, State or local agency. If the individual is alive, NIOSH may obtain information on health status from disease registries or on last known address in order to contact the individual for a health study or to inform him or her of health findings. This information on health status enables NIOSH to evaluate whether excess occupationally related mortality or morbidity is occurring.

In the event of litigation where the defendant is: (a) The Department, any component of the Department, or any employee of the Department in his or her official capacity; (b) the United States where the Department determines that the claim, if successful, is likely to directly affect the operations of the Department or any of its components; or (c) any Department employee in his or her individual capacity where the Department of Justice has agreed to represent such employee, for example, in defending a claim against the Public Health Service based upon an individual's mental or physical condition and alleged to have arisen because of activities of the Public Health Service in connection with such individual, disclosure may be made to the Department of Justice to enable that Department to present an effective defense, provided that such disclosure is compatible with the purpose for which the records were collected. Records may also be disclosed when deemed desirable or necessary, to the Department of Justice, and/or the Department of Labor, to enable that Department to effectively represent the Department of Health and Human Services and/or the Department of Labor in litigation involving the Energy Employees Occupational Illness Compensation Program Act of 2000 (EEOICPA).

Records subject to the Privacy Act are disclosed to private firms for data entry, scientific support services, nosology coding, computer systems analysis and computer programming services. The contractors promptly return data entry records after the contracted work is completed. The contractors are required to maintain Privacy Act safeguards.

Certain diseases or exposures may be reported to State and/or local health departments where the State has a legally constituted reporting program for communicable diseases and which provides for the confidentiality of the information.

In the event of litigation initiated at the request of NIOSH, the Institute may disclose such records as it deems desirable or necessary to the Department of Justice and to the Department of Labor, Office of the Solicitor, where appropriate, to enable the Departments to effectively represent the Institute, provided such disclosure is compatible with the purpose for which the records were collected. The only types of litigation proceedings that NIOSH is authorized to request are: (1) Enforcement of a subpoena issued to an employer to provide relevant information; and (2) administrative search warrants to obtain access to places of employment and relevant information therein and related contempt citations against an employer for failure to comply with a warrant obtained by the Institute; and (3) injunctive relief against employers or mine operators to obtain access to relevant information.

Disclosure may be made to NIOSH collaborating researchers (e.g., NIOSH contractors, grantees, cooperative agreement holders, or other Federal or State scientists) in order to accomplish the research purpose for which the records are collected. The collaborating researchers must agree in writing to comply with the confidentiality provisions of the Privacy Act and NIOSH must have determined that the researchers' data security procedures will protect confidentiality.

Disclosure of epidemiologic study records pertaining to uranium workers may be made to the Department of Justice to be used in determining eligibility for compensation payments to the uranium workers or their survivors.

Records may be disclosed by CDC in connection with public health activities to the Social Security Administration for sources of locating information to accomplish the research or program purposes for which the records were collected.

Disclosure of records or portions of records may be made to a Member of Congress or a Congressional staff member submitting a verified request involving an individual who is entitled to the information and has requested assistance from the Member or staff member. The Member of Congress or Congressional staff member must provide a copy of the individual's written request for assistance.

The following routine uses apply only to EEOICPA Program records:

Disclosure of dose reconstructions, epidemiologic study records and employment and medical information pertaining to Department of Energy employees and other cancer-related claimants covered under the Energy Employees Occupational Illness Compensation Program Act may be made to the Department of Labor to be used in determining eligibility for compensation payments to such claimants and in defending its determinations under the Act.

Disclosure of personal identifying information associated with cancer-related claims under the Energy Employees Occupational Illness Compensation Program Act may be made to the Department of Energy, other federal agencies, other government or private entities and to private-sector employers to permit these entities to retrieve records required to reconstruct radiation doses and to enable NIOSH to evaluate petitions for inclusion in the Special Exposure Cohort.

Completed dose reconstruction reports for cancer-related claims under the Energy Employees Occupational Illness Compensation Program Act may be released to the Department of Energy and the Department of Labor to permit these entities to fulfill EEOICPA and HHS dose reconstruction regulation requirements to notify claimants of their dose reconstruction results.

Disclosure of personal identifying information associated with cancer-related claims under the Energy Employees Occupational Illness Compensation Program Act may be made to identified witnesses as designated by the Office of Compensation Analysis and Support to assist NIOSH in obtaining information required to complete the dose reconstruction process and to enable NIOSH to evaluate petitions for inclusion in the Special Exposure Cohort.

Policies and practices for storing, retrieving, accessing, retaining, and disposing of records in the system:

Storage:

Manager files, card files, computer tapes/disks and printouts, microfilm, microfiche, and other files as appropriate.

Retrievability:

Name, assigned number, plant name, and year tested are some of the indices used to retrieve records from these systems. Other retrieval methods are utilized as individual research dictates.

Safeguards:

1. Authorized Users: A database software security package is utilized to control unauthorized access to the system. Access is granted to only a limited number of physicians, scientists, statisticians, and designated support staff or contractors, as authorized by the system manager to accomplish the stated purposes for which the data in this system have been collected.

2. Physical Safeguards: Hard copy records are kept in locked cabinets in locked rooms (or equivalent safeguarding). Guard service in buildings provides screening of visitors. The limited access, secured computer room contains fire extinguishers and an overhead sprinkler system. Computer terminals and automated records are located in secured areas. Electronic anti-intrusion devices are in operation at the Federal Records Center.

3. Procedural Safeguards: Data sets are password protected and/or encrypted. Protection for computerized records both on the mainframe and the CIO Local Area Network (LAN) includes programmed verification of valid user identification code and password prior to logging on to the system, mandatory password changes, limited log-ins, virus protection, and user rights/file attribute restrictions. Password protection imposes user name and password log-in requirements to prevent unauthorized access. Each user name is assigned limited access rights to files and directories at varying levels to control file sharing. There are routine daily backup procedures and Vault Management System for secure off-site storage is available for backup tapes. Additional safeguards may be built into the program by the system analyst as warranted by the sensitivity of the data.

Employees and contractor staff who maintain records are instructed to check with the system manager prior to making disclosures of data. When individually identified data are being used in a room, admittance at either government or contractor sites is restricted to specifically authorized personnel. Privacy Act provisions are included in contracts, and the Project Director, contract officers and project officers oversee compliance with these requirements. Upon completion of the contract, all data will be either returned to CDC or destroyed, as specified by the contract.

4. Implementation Guidelines: The safeguards outlined above are developed in accordance with Chapter 45-13, “Safeguarding Records Contained in Systems of Records,” of the HHS General Administration Manual; and part 6, “Automated Information System Security,” of the HHS Information Resources Management Manual. FRC safeguards are in compliance with GSA Federal Property Management Regulations, Subchapter B—Archives and Records. Data maintained in CDC Atlanta's Processing Center are in compliance with OMB Circular A-130, Appendix III. Security is provided for information collection, processing, transmission, storage, and dissemination in general support systems and major applications. The CIO LANs operate under the current CDC approved version of Novell Netware, and are in compliance with “CDC & ATSDR Security Standards for Novell File Servers.”

Retention and disposal:

Records are maintained in agency for three years after the close of the study. Records transferred to the Federal Records Center when no longer needed for evaluation and analysis are destroyed after 75 years for epidemiologic studies, unless needed for further study. Records from health hazard evaluations will be retained at least 20 years, and then disposed of in accordance with the CDC Records Control Schedule. EEOICPA program records are transferred to the Federal Records Center 15 years after the case file becomes inactive and are destroyed after 75 years. Paper files that have been scanned to create electronic copies are disposed of after the copies are verified. Disposal methods include erasing computer tapes and burning or shredding paper materials.

System manager(s) and address:

Program Management Officer, Division of Surveillance, Hazard Evaluations, and Field Studies (DSHEFS), National Institute for Occupational Safety and Health (NIOSH), Robert A. Taft Laboratories, Rm. 40A, MS R12, 4676 Columbia Parkway, Cincinnati, OH 45226.

Director, Division of Respiratory Disease Studies (DRDS), National Institute for Occupational Safety and Health (NIOSH), ALOSH Bldg., Rm. H-2920, MS H2900, 1095 Willowdale Road, Morgantown, WV 26505.

Director, Pittsburgh Research Laboratory, NIOSH, 626 Cochrans Mill Road, Pittsburgh, PA 15236.

Director, Spokane Research Laboratory, NIOSH, 315 E. Montgomery Avenue, Spokane, WA 99207.

Director, Office of Compensation and Support (OCAS), NIOSH, Robert A. Taft Laboratories, 4676 Columbia Parkway, Cincinnati, OH 45226.

Policy coordination is provided by: Director, National Institute for Occupational Safety and Health (NIOSH), Bldg. HHH, Rm. 715H, MS P-12, 200 Independence Avenue, SW., Washington, DC 20201.

Notification procedure:

An individual may learn if a record exists about him or herself by contacting the system manager at the above address. Requesters in person must provide driver's license or other positive identification. Individuals who do not appear in person must either: (1) Submit a notarized request to verify their identity; or (2) certify that they are the individuals they claim to be and that they understand that the knowing and willful request for or acquisition of a record pertaining to an individual under false pretenses is a criminal offense under the Privacy Act subject to a $5,000 fine.

An individual who requests notification of or access to medical records shall, at the time the request is made, designate in writing a responsible representative who is willing to review the record and inform the subject individual of its contents at the representative's discretion. A subject individual will be granted direct access to a medical record if the system manager determines direct access is not likely to have adverse effect on the subject individual.

The following information must be provided when requesting notification: (1) Full name; (2) the approximate date and place of the study, if known; and (3) nature of the questionnaire or study in which the requester participated.

Record access procedures:

Same as notification procedures. Requesters should also reasonably specify the record contents being sought. An accounting of disclosures that have been made of the record, if any, may be requested.

Contesting record procedures:

Contact the official at the address specified under System Manager above, reasonably identify the record and specify the information being contested, the corrective action sought, and the reasons for requesting the correction, along with supporting information to show how the record is inaccurate, incomplete, untimely, or irrelevant.

Record source categories:

Vital status information is obtained from Federal, State and local governments and other available sources selected from those listed in Appendix I. Information is obtained directly from the individual and employer records, whenever possible.

Systems exempted from certain provisions of the act:

None.

Appendix I—Potential Sources for Determination of Health Status, Vital Status and/or Last Known Address

Military records

Appropriate State Motor Vehicle Registration Departments

Appropriate State Driver's License Departments

Appropriate State Government Division of: Assistance Payments (Welfare), Social Services, Medical Services, Food Stamp Program, Child Support, Board of Corrections, Aging, Indian Affairs, Worker's Compensation, Disability Insurance

Retail Credit Association follow-up

Veterans Administration files

Appropriate employee union or association records

Appropriate company pension or employment records

Company group insurance records

Appropriate State Vital Statistics Offices

Life insurance companies

Railroad Retirement Board

Area nursing homes

Area Indian Trading Posts

Mailing List Correction Cards (U.S. Postal Service)

Letters and telephone conversations with former employees of the same establishment as cohort member

Appropriate local newspaper (obituaries)

Social Security Administration

Internal Revenue Service

National Death Index

Centers for Medicare & Medicaid Services

Pension Benefit Guarantee Corporation

State Disease Registries

[FR Doc. 03-24481 Filed 9-26-03; 8:45 am]

BILLING CODE 4163-18-P